NATIONAL SCIENCE FOUNDATION (NSF)

Sunshine Act Meetings; National Science Board

The National Science Board, pursuant to NSF regulations (45 CFR part 614), the National Science Foundation Act, as amended, (42 U.S.C. 1862n-5), and the Government in the Sunshine Act (5 U.S.C. 552b), hereby gives notice of a revision to an announcement of meetings for the transaction of National Science Board business.

FEDERAL REGISTER CITATION OF PREVIOUS ANNOUNCEMENT: 83 FR 18351-53, published on April 26, 2018.

PREVIOUSLY ANNOUNCED TIME AND DATE OF THE MEETINGS:

Thursday, May 3, 2018

Committee on Strategy (CS)

Open session: 9:10-9:30 a.m.

• Committee Chair's Opening Remarks

• Approval of Prior Minutes

• FY 2018 Appropriations and FY 2019 Budget Request Summary

• Committee Chair's Reflections on Past Board Term

Committee on Strategy (CS)

Closed session: 9:30-10:30 a.m.

• Committee Chair's Opening Remarks

• Approval of Prior Minutes

• FY 2018-FY 2019 Budget Discussion

CHANGES IN THE MEETINGS:

Thursday, May 3, 2018

Committee on Strategy (CS)

Open session: 9:10-10:10 a.m.

• Committee Chair's Opening Remarks

• Approval of Prior Minutes

• Convergence Accelerators and Big Ideas

• Committee Chair's Reflections on Past Board Term

Closed session: 10:10-10:30 a.m.

• Committee Chair's Opening Remarks

• Approval of Prior Minutes

• FY 2018 Appropriations

CONTACT PERSON FOR MORE INFORMATION: Brad Gutierrez, bgutierr@nsf.gov, 703-292-7000. Please refer to the National Science Board website for additional information. Meeting information and schedule updates (time, place, subject matter, and status of meeting) may be found at http://www.nsf.gov/nsb/meetings/notices.jsp#sunshine.

Chris Blair,
Executive Assistant, National Science Board Office.

[FR Doc. 2018-09346 Filed 4-30-18; 11:15 am]

BILLING CODE 7555-01-P